UNITED STATES OLYMPIC AND PARALYMPIC COMMITTEE

Athlete Ombuds Confidentiality and Privacy Policy

AGENCY: United States Olympic and Paralympic Committee.

ACTION: Notice

SUMMARY: Congress directed the Office of the Athlete Ombuds to develop and publish in the Federal Register, not later than 180 days after the date of enactment of the Empowering Olympic, Paralympic, and Amateur Athletes Act of 2020, a confidentiality and privacy policy consistent with statutory guidelines. This Notice contains the policy required by the statute.

DATES: This confidentiality and privacy policy notice is effective April 26, 2021.

ADDRESSES: For information about the United States Olympic and Paralympic Committee Office of the Athlete Ombuds, visit www.teamusa.org/athlete-ombuds. You may request written materials about the confidentiality and privacy policy by writing to Office of the Athlete Ombuds, U.S. Olympic and Paralympic Committee, 1 Olympic Plaza, Colorado Springs, Colorado 80909.

FOR FURTHER INFORMATION CONTACT: For specific questions related to this Notice, please contact Kathleen C. Wallace, Athlete Ombuds, at 719-866-2299 or kacie @usathlete.org.

SUPPLEMENTARY INFORMATION:

Background

On October 30, 2020, Congress enacted the Empowering Olympic, Paralympic, and Amateur Athletes Act of 2020 (Pub. L. 116 -189, 134 Stat. 943 (2020)) (the ” Act”), which revised certain duties of the Office of the Athlete Ombuds. Section 6(e) of the Act, codified in 36 U.S.C. 220509(b)(4)(E), requires that no later than 180 days after the date of enactment of the Act, the Office of the Athlete Ombuds develop and publish in the Federal Register a confidentiality and privacy policy consistent with certain statutory guidelines. This Notice contains the confidentiality and privacy policy required by the Act.

Confidentiality and Privacy Policy

A. In general—The Office of the Athlete Ombuds shall maintain as confidential any information communicated or provided to the Office of the Athlete Ombuds in confidence in any matter involving the exercise of the official duties of the Office of the Athlete Ombuds.

B. Exceptions—The Office of the Athlete Ombuds may disclose information described in subparagraph (A) as necessary to resolve or mediate a dispute, with the permission of the parties involved.

C. Judicial and administrative proceedings.

a. In general—The ombudsman and the staff of the Office of the Athlete Ombuds shall not be compelled to testify or produce evidence in any judicial or administrative proceeding with respect to any matter involving the exercise of the duties of the Office of the Athlete Ombuds.

b. Work product—Any memorandum, work product, notes, or case file of the Office of the Athlete Ombuds—

i. shall be confidential; and

ii. shall not be—

1. subject to discovery, subpoena, or any other means of legal compulsion; or

2. admissible as evidence in a judicial or administrative proceeding.

D. Applicability—The confidentiality requirements under this paragraph shall not apply to information relating to—

a. applicable federally mandated reporting requirements;

b. a felony personally witnessed by a member of the Office of the Athlete Ombuds;

c. a situation, communicated to the Office of the Athlete Ombuds, in which an individual is at imminent risk of serious harm; or

d. a congressional subpoena.

Dated: April 22, 2021.
Kathleen C. Wallace,
Athlete Ombuds.

[FR Doc. 2021-08990 Filed 4-26-21; 4:15 pm]

BILLING CODE P